ENVIRONMENTAL PROTECTION AGENCY

[ER-FRL-6651-3]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in the Federal Register dated April 2, 2004 (69 FR 17403).

Draft EISs

ERP No. D-FHW-F40422-IN Rating EC2, US 231 Highway Improvements Project, I-64 to IN-56 in Haysville, Funding, NPDES Permit and U.S. Army COE Section 10 and 404 Permits Issuance, Dubois County, IN.

Summary: EPA has environmental concerns with the proposed project regarding impacts to wetlands and upland forest ecosystems and the lack of complete conceptual mitigation plans for these impacts. EPA also recommends clarification on the purpose and need of the project.

ERP No. D-NOA-L64049-AK Rating LO, Bering Sea and Aleutian Islands King and Tanner Crab Fisheries and Fishery Management Plan, Implementation, United States Exclusive Economic Zone (EEZ) off Alaska.

Summary: EPA has no objection to the action as proposed.

ERP No. D-NOA-L91022-00 Rating EC2, Programmatic EIS—Pacific Coast Groundfish Bycatch Management, Establishment of Policies and Program Direction to Minimize Baycatch in the West Coast Groundfish Fisheries, Magnuson-Stevens Act, WA, OR and CA.

Summary: EPA expressed environmental concerns relating to bycatch issues.

Final EISs

ERP No. F-AFS-K65265-CA McNally/Sherman Pass Restoration Project, Fire Killed Trees Removal, Road Construction and Associated Restoration of the Burned Area, Sequoia National Forest, Cannell Meadow Ranger District, Tulare County, CA.

Summary: No formal comment letter was sent to the preparing agency.

ERP No. F-FHW-G50010-00 I-69 Mississippi River Crossing, Construction, from a western terminus at U.S. 65 near McGehee, AR to an eastern terminus at MS-1 near Benoit, MS, US Coast Guard Bridge Permit, U.S. Army Corps of Engineers Section 10 and 404 Permits and NPDES Permit Issuance, Desha County, AR and Bolivar County, MS.

Summary: No formal comment letter was sent to the preparing agency.

ERP No. F-NOA-C91004-00 Generic Essential Fish Habitat Amendment to Spiny Lobster, Queen Conch, Reef Fish and Coral Fishery Management Plans, Implementation, U.S. Caribbean Extending to U.S. Exclusive Economic Zone (EEZ), Virgin Islands and Puerto Rico.

Summary: No formal comment letter was sent to the preparing agency.

ERP No. F-NOA-D91000-00 Framework Adjustment 4 to the Atlantic Mackeral, Squid and Bullfish Fishery Management Plan, Implementation, Extension of Moratorium to the Illex Fishery, Fishery Management Council.

Summary: EPA has no objection to the action as proposed.

ERP No. F-NPS-F61021-WI Apostle Islands National Lakeshore Wilderness Study, Wilderness Designation or Nondesignation, Ashland and Bayfield Counties, WI.

Summary: EPA has no objection to the proposed action.

ERP No. FS-COE-E30038-FL Phipps Ocean Park Beach Restoration Project to Provide Shore Protection for the Shoreline surrounding Phipps Ocean Park within the Town of Palm Beach, Regulatory Authorization and U.S. Army COE Section 10 and 404 Section Permits Issuance, Palm Beach County, FL.

Summary: EPA has no objection to the proposed action.

Dated: May 11, 2004.
Ken Mittelholtz,
Environmental Protection Specialist, Office of Federal Activities.

[FR Doc. 04-10992 Filed 5-13-04; 8:45 am]

BILLING CODE 6560-50-P